ENVIRONMENTAL PROTECTION AGENCY

[EPA-HQ-OPPT-2018-0611; FRL-12562-01-OMS]

Agency Information Collection Activities; Submission to the Office of Management and Budget for Review and Approval; Comment Request; Toxic Substances Control Act (TSCA) Existing Chemical Risk Evaluation and Management: Generic Information Collection Request for Surveys (Renewal)

AGENCY: Environmental Protection Agency (EPA).

ACTION: Notice.

SUMMARY: The Environmental Protection Agency (EPA) has submitted an information collection request (ICR), TSCA Existing Chemical Risk Evaluation and Management; Generic ICR for Surveys, (EPA ICR Number 2585.02 and OMB Control Number 2070-0218) to the Office of Management and Budget (OMB) for review and approval in accordance with the Paperwork Reduction Act. This is a proposed extension of the ICR, which is currently approved through February 28, 2025. Public comments were previously requested via the Federal Register on May 15, 2024. This notice allows for an additional 30 days for public comments.

DATES: Comments must be received on or before February 18, 2025.

ADDRESSES: Submit your comments to EPA, identified by docket identification (ID) number Docket ID No. EPA-HQ-OPPT-2018-0612, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460-0001; telephone number: (202) 566-1204; email address: sleasman.katherine@epa.gov.

SUPPLEMENTARY INFORMATION: This is a proposed extension of the ICR, which is approved through February 28, 2025. An agency may not conduct, or sponsor and a person is not required to respond to a collection of information unless it displays a currently valid OMB control number. Public comments were previously requested via the Federal Register on May 15, 2024, establishing a 60-day comment period (89 FR 42467). This notice allows for an additional 30 days for public comments. Supporting documents, which explain in detail the information collection activities and related estimated burden and costs that are summarized in this document, are available in the docket. The docket can be viewed online at https://www.regulations.gov or in person at the EPA Docket Center, WJC West, Room 3334, 1301 Constitution Ave. NW, Washington, DC. The telephone number for the Docket Center is 202-566-1744. Additional instructions on commenting and visiting the docket is available at https://www.epa.gov/dockets.

Abstract: EPA will use this generic ICR to survey chemical users, processors, distributors, manufacturers (including importers), and recyclers, chemical waste handlers, consumers of chemical-containing products, employees exposed to the chemical evaluated (including unions), state and local regulators, non-governmental organizations, industry experts, and knowledgeable members of the public (including potentially exposed or susceptible subpopulations) who may have relevant information and are not covered by current information collection requests. The Agency will use the information collected to inform the development of any future regulatory efforts and to integrate consistent, meaningful, and transparent information into risk evaluation and risk management actions. This information is critical for adequately identifying conditions of use, conducting hazard and exposure assessments, characterizing risks, ascertaining benefits of and substitutes for each substance, estimating the economic consequences of regulation, and developing appropriate regulatory actions. Surveys are important information-gathering tools that will allow EPA to collect information that is necessary to inform the risk evaluation and management efforts and support unreasonable risk determinations from existing chemicals under TSCA.

Form number(s): None.

Respondents/affected entities: Entities potentially affected by this include chemical manufacturers (including importers), chemical users (including government agencies), processors, distributors, product manufacturers, recyclers, chemical waste handlers, consumers, employees, and others with important information about the chemical being evaluated or considered for risk evaluation and management under TSCA. North American Industrial Classification System (NAICS) codes identified in question 12 of the ICR.

Respondent's obligation to respond: Voluntary.

Estimated number of potential respondents: 2,400.

Frequency of response: On occasion.

Total estimated burden: 22,080 hours. Burden is defined at 5 CFR 1320.3(b).

Total estimated costs: $1,960,086, includes $0 annualized capital investment or maintenance and operational costs.

Changes in the estimates: There are adjustments to the burden hours and responses currently approved by OMB. There is an increase in 20,880 burden hours and an increase in 1,800 responses. There changes are corrections to reflect three-year totals.

Courtney Kerwin,
Director, Information Engagement Division.

[FR Doc. 2025-01039 Filed 1-15-25; 8:45 am]

BILLING CODE 6560-50-P